DEPARTMENT OF DEFENSE

Office of the Secretary

[Transmittal No. 25-1F]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1F.

Dated: January 22, 2026.
Stephanie J. Bost,
Alternate OSD Federal Register Liaison Officer, Department of Defense.

BILLING CODE 6001-FR-P

BILLING CODE 6001-FR-C

Transmittal No. 25-1F

REPORT OF ENHANCEMENT OR UPGRADE OF SENSITIVITY OF TECHNOLOGY OR CAPABILITY (SEC. 36(B)(5)(C), AECA)

(i) Prospective Purchaser: Government of Australia

(ii) Sec. 36(b)(1), AECA Transmittal No.: 21-42

Date: June 3, 2021

Implementing Agency: Army

(iii) Description: On June 3, 2021, Congress was notified by congressional certification transmittal number 21-42 of the possible sale, under Section 36(b)(1) of the Arms Export Control Act, of twenty-nine (29) AH-64E Apache attack helicopters; sixty-four (64) T700-GE 701D engines (58 installed, 6 spares); twenty-nine (29) AN/ASQ-170 Modernized Target Acquisition and Designation Sight/AN/AAR-11 Modernized Pilot Night Vision Sensors (M-TADS/PNVS); sixteen (16) AN/APG-78 Fire Control Radars (FCR) with Radar Electronic Units; twenty-nine (29) AN/APR-48B Modernized Radar Frequency Interferometers (MRFI); seventy (70) Embedded Global Positioning Systems with Inertial Navigation Systems plus Multi-Mode Receiver (EGI+MMR) (58 installed, 12 spares); thirty-five (35) AAR-57 Common Missile Warning Systems (CMWS) (29 installed, 6 spares); seventy (70) AN/ARC-231A Very High Frequency/Ultra High Frequency (VHF/UHF) radios (58 installed, 12 spares); eighty-five (85) AGM-114R Hellfire missiles; twenty-nine (29) M36E8 Hellfire Captive Air Training Missiles (CATM); and two thousand (2,000) Advanced Precision Kill Weapon System Guidance Sections (APKWS-GS). Also included were AN/APR-39 Radar Signal Detecting Sets; AN/AVR-2B Laser Detecting Sets; AN/APX-123A Identification Friend or Foe (IFF) transponders; IDM-401 Improved Data Modems; Link-16 Small Tactical Terminal KOR-24-A; Improved Countermeasure Dispensing System (ICMD); AN/ARN-149 (V)3 Automatic Direction Finders; Doppler ASN-157 Doppler Radar Velocity Sensors; AN/APN-209 Radar Altimeters Common Core (RACC); AN/ARN-153 Tactical Air Navigation Set (TACAN); AN/PYQ-10(C) Simple Key Loader; M230E1 + M139 AWS Automatic Gun; M261 Rocket Launchers; M299 missile launchers; 2.75 inch rockets; 30mm rounds; High Explosive Warhead for airborne 2.75 rockets, inert; MK66-4 2.75 inch rocket High Explosive warhead M151 fuze M423 motor; MK66-4 2.75 inch rocket warhead M274 motor; MK66-4 2.75 inch rocket motor; M151HE 2.75 inch warhead; Manned-Unmanned Teaming-2 (MUMT-X) video receivers; Manned-Unmanned Teaming-2 (MUMT-X) Air-Air-Ground kits; training devices; communication systems; helmets; simulators; generators; transportation and organization equipment; spare and repair parts; support equipment; tools and test equipment; technical data and publications; personnel training and training equipment; United States (U.S.) Government and contractor technical assistance; technical and logistics support services; and other related elements of program and logistical support. The total estimated value was $3.5 billion. Major Defense Equipment (MDE) constituted $2.5 billion of this total.

This transmittal notifies the inclusion of up to thirty-three (33) Common Infrared Countermeasure (CIRCM) systems (29 installed, 4 spares). The following non-MDE items are also included: Blue force tracking 2 (BFT-2) systems and KGV-72 programmable encryption devices. The estimated total cost of the new items is $150 million. The estimated MDE value will increase by $140 million. The estimated non-MDE value will increase by $10 million to a revised $1.01 billion. The estimated total case value will increase by $150 million to a revised $3.65 billion. Major Defense Equipment (MDE) will constitute $2.64 billion of this total.

(iv) Significance: This notification is being provided as the MDE items for CIRCM systems were not enumerated in the original notification. The proposed articles and services will support Australia's capability to meet current and future threats and will enhance interoperability with U.S. and other allied forces.

(v) Justification: This proposed sale will support the foreign policy and national security objectives of the U.S. Australia is one of the most important U.S. allies in the Western Pacific. The strategic location of this political and economic power contributes significantly to ensuring peace and economic stability in the Western Pacific. It is vital to the U.S. national interest to assist our ally in developing and maintaining a strong and ready self-defense capability.

(vi) Sensitivity of Technology:

The CIRCM system is the next-generation lightweight, laser-based, infrared countermeasure system for rotary-wing, tiltrotor, and small fixed-wing aircraft across the DoD. CIRCM provides near spherical coverage of the host platform to defeat infrared-seeking threat missiles. CIRCM receives an angular bearing hand-off from the Common Missile Warning System and employs a pointing and tracking system that acquires and tracks the incoming missile. CIRCM jams the missile by using modulated laser energy, thus degrading the tracking capability of the missile and causing it to miss the aircraft.

The KGV-72 programmable encryption device provides traffic encryption for Force Battle Command Brigade and Below (FBCB2) Blue force tracking (BFT) satellite network multicast and unicast transmission of mapping, short messaging, and geolocation application data. Designed for use in tactical ground and rotary wing platforms, the KGV-72 connects to a commercial L band transceiver and FBCB2 BFT computer to secure beyond line-of-sight communication.

The Sensitivity of Technology statement contained in the original notification applies to additional items mentioned.

The highest level of information that may be transferred in support of this proposed sale is classified SECRET.

(vii) Date Report Delivered to Congress: September 15, 2025

[FR Doc. 2026-01500 Filed 1-26-26; 8:45 am]

BILLING CODE 6001-FR-P